NATIONAL CREDIT UNION ADMINISTRATION

Chartering and Field of Membership—Public Hearing; Community Charter Application for Area With a Population of 2.5 Million or More

AGENCY: National Credit Union Administration (NCUA).

ACTION: Notice of public hearing.

SUMMARY: The NCUA will hold a public hearing on a request from Dade County Federal Credit Union, submitted on November 8, 2022, seeking to expand its existing community charter. The American Community Survey estimates the proposed community's population is 4,624,664 people. This public hearing is being held pursuant to the NCUA's Chartering and Field of Membership Manual, and the agency is requesting comments from interested stakeholders regarding whether the area qualifies as a well-defined local community.

DATES: The public hearing will be held on June 7, 2023, at 1 p.m. Eastern. The meeting will be held virtually via WebEx. Interested parties seeking to make presentations during the hearing must register by 12 p.m. Eastern on May 10, 2023, to be placed on a list of presenters. The applicant along with no more than seven other interested parties may request to make presentations. The first six interested parties that contact the NCUA in writing will be permitted to make such presentations. Members of the public seeking to watch or listen to the virtual meeting must register to view the public hearing. The agency will not reimburse any travel expenses for interested parties making presentations, or members of the public attending the meeting. Written comments must be submitted by May 10, 2023.

FOR FURTHER INFORMATION CONTACT: For public hearing process issues: JeanMarie Komyathy, Deputy Director; Rita Woods, Division Director of Consumer Access; or Sheila Snock, Consumer Access Program Officer, Office of Credit Union Resources and Expansion (CURE), at 1775 Duke Street, Alexandria, VA 22314, or telephone (703) 518-1150. For legal issues: Marvin Shaw, Senior Staff Attorney, Office of General Counsel at the above address or telephone (703) 518-6553.

SUPPLEMENTARY INFORMATION:

Background

The NCUA's Chartering and Field of Membership Manual provides that for an applicant seeking a community charter for an area with multiple political jurisdictions with a population of 2.5 million people or more, the Office of Credit Union Resources and Expansion (CURE) shall do the following: (1) publish a notice in the Federal Register seeking comment from interested parties about the proposed community and (2) conduct a public hearing about this application.¹ The preamble to the June 28, 2018, final rule, that established the public hearing process sets forth the procedures that will govern such hearings.² The procedures are described in the following section of this notice.

¹ 12 CFR part 701, appendix B, chapter 2 section V.A.2.

² 83 FR 30289 (June 28, 2018). In particular, see the preamble discussion on 83 FR 30289, 30293.

Public Hearing Procedures

The NCUA will appoint a presiding officer to oversee and conduct the public hearing. The presiding officer will have the authority and discretion to ensure that the meeting proceeds in a fair and orderly manner. The NCUA will transcribe the meeting, which will provide an administrative record to allow the agency to consider comments presented at the hearing along with those submitted in writing.

The public hearing will last no more than four hours with interested parties making presentations of no more than 30 minutes each. Only eight people may make a presentation, which includes the applicant and seven other interested parties. The first six parties in addition to the applicant that contact the NCUA in writing will be permitted to make such presentations. CURE will reserve the remaining slot, which it has the discretion to designate as eligible for a presentation by an interested party. In addition to the presentations, interested parties may submit written statements to CURE.

The NCUA will make a determination on the application no sooner than 30 calendar days after the date of the public hearing.

Request to Present: Parties requesting to make a presentation at the public hearing must submit their request via email:

To: dcamail@ncua.gov

Subject: Request to Present at NCUA's Public Hearing for Dade County Federal Credit Union

Within the body of the email, please include the following information:

1. The name, city and state, telephone number, organization (if applicable), and email address of the presenter;

2. A brief statement of the nature of the expected presentation (including whether the presenter will support, oppose, or neither support nor oppose the proposed application); and

3. The identification of any special or accessibility needs, such as sign language translation services.

NCUA will confirm the first six requests to present at the public hearing. A presenter must submit a written copy of its presentation to the NCUA by May 10, 2023.

Written Statements: Parties providing written statements must submit their statements via email or at the following URL: Public Hearings for Certain Proposed Community Charter Actions | NCUA

If submitting via email, please use the following format:

To: dcamail@ncua.gov

Subject: Submission of Written Statement for Dade County Federal Credit Union Community Charter Application Request

Written comments must be submitted by May 10, 2023.

Application Request: The information below pertains to the credit union's proposed community charter application request. The narrative the applicant submitted in support of their position the area qualifies as a well-defined local community is also available for review within the Regulations.gov docket for this notice of public hearing.

Credit Union's Name: Dade County Federal Credit Union.

Credit Union's Location: Sweetwater, Florida.

Actual Members: 100,707 members as of December 31, 2022.

Population of Proposed Community: 4,624,664 (2021 5-yr ACS estimate).

Existing Field of Membership: Persons who live, work, worship, attend school, participate in programs to alleviate poverty or distress, or participate in associations headquartered in; and businesses and other legal entities, incorporated and unincorporated organizations located in, or maintaining a facility located in Miami-Dade County, Florida.

Description of Proposed Community: Persons who live, work, worship, attend school, participate in programs to alleviate poverty or distress, or participate in associations headquartered in; and businesses and other legal entities, incorporated and unincorporated organizations located in, or maintaining a facility located in Broward or Miami-Dade County, Florida.

Reason for Seeking Proposed Community: Dade County Federal Credit Union believes that its current community is an inhibitor to current and future growth as it regularly turns away would-be members from nearby neighboring Broward County who are not eligible to join through their current field of membership.

All submitted comments and presentation requests, including attachments and exhibits, will become part of the NCUA's administrative record for that proposed narrative community application. Accordingly, these materials will be available to the public. Submissions should not include personal identifiable information, trade secrets, or commercial or financial information that is privileged or confidential.

Accessibility Statement: These meetings will be open to the public virtually using a WebEx platform. The accessibility information is located at https://www.webex.com/accessibility.html/.

By the NCUA Board, this 22 day of March 2023.
Melane Conyers-Ausbrooks,
Secretary of the Board.

[FR Doc. 2023-06264 Filed 3-24-23; 8:45 am]

BILLING CODE 7535-01-P